DEPARTMENT OF TRANSPORTATION

Federal Aviation Administration

14 CFR Part 121

[Docket No. FAA-2002-13464; Notice No. 02-17]

RIN 2120-AC84

Improved Seats in Air Carrier Transport Category Airplanes; Extension of Comment Period

AGENCY: Federal Aviation Administration (FAA), DOT.

ACTION: Supplemental notice of proposed rulemaking (SNPRM); extension of comment period.

SUMMARY: This action extends the comment period for an SNPRM the FAA issued on September 26, 2002. In that document, the FAA proposed to require that all passenger and flight attendant seats in transport category airplanes used in passenger-carrying operations meet improved crashworthiness standards. This extension is a result of requests from the Aerospace Industries Association (AIA), The Boeing Company (Boeing), and the General Aviation Manufacturers Association (GAMA).

DATES: Send your comments on or before March 3, 2003.

ADDRESSES: Address your comments to the Docket Management System, U.S. Department of Transportation, Room Plaza 401, 400 Seventh Street, SW., Washington, DC 20590-0001. You must identify the docket number FAA-2002-13464 at the beginning of your comments, and you should send two copies of your comments. If you wish to receive confirmation that FAA received your comments, include a self-addressed, stamped postcard.

You may also send comments through the Internet to http://dms.dot.gov. You may review the public docket containing comments to these proposed regulations in person in the Dockets Office between 9 a.m. and 5 p.m., Monday through Friday, except Federal holidays. The Dockets Office is on the plaza level of the NASSIF Building at the Department of Transportation at the above address. Also, you may review public dockets on the Internet at http://dms.dot.gov.

FOR FURTHER INFORMATION CONTACT: Hal Jensen, Aircraft Certification Service, Aircraft Engineering Division, AIR-120, Federal Aviation Administration, 800 Independence Ave., SW., Washington, DC 20591; telephone: (202) 267-8807, facsimile (202) 267-5340, or E-mail: hal.jensen@faa.gov.

SUPPLEMENTARY INFORMATION:

Comments Invited

The FAA invites interested persons to participate in this rulemaking by submitting written comments, data, or views. We also invite comments about the economic, environmental, energy, or federalism impacts that might result from adopting the proposals in this document. The most helpful comments reference a specific portion of the proposal, explain the reason for any recommended change, and include supporting data. We ask that you send us two copies of written comments.

We will file in the docket all comments we receive, as well as a report summarizing each substantive public contact with FAA personnel about this proposed rulemaking. The docket is available for public inspection before and after the comment closing date. If you wish to review the docket in person, go to the address in the ADDRESSES section of this preamble between 9 a.m. and 5 p.m., Monday through Friday, except Federal holidays. You may also review the docket using the Internet at the web address in the ADDRESSES section.

Before acting on this proposal, we will consider all comments we receive on or before the closing date for comments. We will consider comments filed late if it is possible to do so without incurring expense or delay. We may change this proposal because of the comments we receive.

If you want the FAA to acknowledge receipt of your comments on this proposal, include with your comments a pre-addressed, stamped postcard on which the docket number appears. We will stamp the date on the postcard and mail it to you.

Background

On September 26, 2002, the FAA issued Notice No. 02-17, Improved Seats in Air Carrier Transport Category Airplanes (67 FR 62294, October 4, 2002). Comments to that document were to be received on or before December 3, 2002.

On October 29, 2002, Boeing asked the FAA to extend the comment period on Notice No. 02-17 an additional 4 months. In its petition, Boeing indicates that additional time is necessary to collect and confirm economic data. Boeing adds the SNPRM is significantly different from the FAA's original proposal. On November 5, 2002, AIA asked for a 4-6 month extension of the comment period for the same reasons identified by Boeing. Further, on November 6, 2002, GAMA asked for a 90-day extension. GAMA states the proposal is complex and an extension is necessary to allow interested parties time to develop meaningful and substantive comments.

While the FAA agrees with the petitioners' requests for an extension of the comment period on Notice No. 02-17, the FAA believes that a 4-6 month extension would be excessive. The FAA believes an added 90 days would be adequate for these petitioners to collect economic data necessary to provide meaningful comment to Notice No. 02-17. This will also allow commenters who may have anticipated an extension in the comment period to send their comments by a date certain. Absent unusual circumstances, the FAA does not anticipate any further extension of the comment period for this rulemaking.

Extension of Comment Period

In accordance with § 11.47(c) of Title 14, Code of Federal Regulations, the FAA has reviewed the petitions made by AIA, Boeing, and GAMA for extension of the comment period to Notice No. 02-17. The FAA finds that extension of the comment period is consistent with the public interest, and that good cause exists for taking this action. These petitioners have a substantive interest in the proposed rule and good cause for the extension.

Accordingly, the comment period to Notice No. 02-17 is extended until March 3, 2003.

Issued in Washington, DC, on November 27, 2002.
John J. Hickey,
Director, Aircraft Certification Service.

[FR Doc. 02-30695 Filed 11-29-02; 12:22 pm]

BILLING CODE 4910-13-P